DEPARTMENT OF ENERGY

Federal Energy Regulatory Commission

[Project No. 13828-000]

FFP Mass 1, LLC; Notice of Preliminary Permit Application Accepted for Filing and Soliciting Comments, Motions To Intervene, and Competing Applications

September 3, 2010.

On August 9, 2010, FFP Mass 1, LLC filed an application for a preliminary permit, pursuant to section 4(f) of the Federal Power Act (FPA), proposing to study the feasibility of the Cape Cod Tidal Energy Project to be located in the Cape Cod Canal and a portion of the Hog Island Channel, between Cape Cod Bay and Buzzards Bay, in Plymouth and Barnstable Counties, Massachusetts. The sole purpose of a preliminary permit, if issued, is to grant the permit holder priority to file a license application during the permit term. A preliminary permit does not authorize the permit holder to perform any land-disturbing activities or otherwise enter upon lands or waters owned by others without the owners' express permission.

The proposed project will consist of the following: (1) 2,000 hydrokinetic tidal devices consisting of a turbine blade assembly and an integrated 10-kilowatt generator for a combined capacity of 20 megawatts; (2) a mooring system; (3) submersible cables connecting the turbine-generating units to a shore station; (4) an approximately 15-mile-long transmission line connecting the shore station to an existing distribution line; and (5) appurtenant facilities. The estimated annual generation of the Cape Cod Tidal Energy Project would be 53 gigawatt-hours.

Applicant Contact: Ramya Swaminathan, Vice President of Development, Free Flow Power Corporation, 33 Commercial Street, Gloucester, MA 01930; phone: (978) 283-2822.

FERC Contact: Michael Watts (202) 502-6123.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13828-000) in the docket number field to access the document. For assistance, contact FERC Online Support.

Kimberly D. Bose,
Secretary.

[FR Doc. 2010-22938 Filed 9-14-10; 8:45 am]

BILLING CODE 6717-01-P